DEPARTMENT OF COMMERCE

International Trade Administration

[C-357-821 and C-560-831]

Biodiesel From the Republic of Argentina and the Republic of Indonesia: Countervailing Duty Orders

AGENCY: Enforcement and Compliance, International Trade Administration, Department of Commerce.

SUMMARY: Based on affirmative final determinations by the Department of Commerce (Commerce) and the International Trade Commission (ITC), Commerce is issuing countervailing duty (CVD) orders on biodiesel from the Republic of Argentina (Argentina) and the Republic of Indonesia (Indonesia).

DATES: Applicable January 4, 2018.

FOR FURTHER INFORMATION CONTACT: Kathryn Wallace (Argentina) or Gene Calvert (Indonesia); AD/CVD Operations, Office VII, Enforcement and Compliance, International Trade Administration, U.S. Department of Commerce, 1401 Constitution Avenue NW, Washington, DC 20230; telephone: (202) 482-6251, or (202) 482-3586, respectively.

SUPPLEMENTARY INFORMATION:

Background

In accordance with section 705(d) of the Tariff Act of 1930, as amended (the Act), on November 16, 2017, Commerce published its affirmative final determinations in the CVD investigations of biodiesel from Argentina and Indonesia.¹ On December 21, 2017, the ITC notified Commerce of its affirmative final determination, pursuant to section 705(d) of the Act, that an industry in the United States is materially injured within the meaning of section 705(b)(1)(A)(i) of the Act, by reason of subsidized imports of biodiesel from Argentina and Indonesia.² On December 28, 2017, the ITC published its final determination in the Federal Register.³

¹ See Biodiesel from the Republic of Argentina: Final Affirmative Countervailing Duty Determination, 82 FR 53477 (November 16, 2017) (Argentina Final Determination); see also Biodiesel from the Republic of Indonesia: Final Affirmative Countervailing Duty Determination, 82 FR 53471 (November 16, 2017) (Indonesia Final Determination).

² See Letter from the ITC to the Honorable Gary Taverman, dated December 21, 2017 (Notification of ITC Final Determination); see also Biodiesel from Argentina and Indonesia, Investigation Nos. 701-TA-571-572 and 731-TA-1347-1348 (Final) (December 2017).

³ See Biodiesel from Argentina and Indonesia; Determinations, 82 FR 61585 (December 28, 2017).

Scope of the Order

The product covered by these orders is biodiesel from Argentina and Indonesia. For a complete description of the scope of these orders, see the Appendix to this notice.

Countervailing Duty Orders

In accordance with sections 705(b)(1)(A)(i) and 705(d) of the Act, the ITC notified Commerce of its final determination that an industry in the United States is materially injured by reason of subsidized imports of biodiesel from Argentina and Indonesia.⁴ Therefore, in accordance with section 705(c)(2) of the Act, we are issuing these CVD orders.

⁴ See Notification of ITC Final Determination.

Because the ITC determined that imports of biodiesel from Argentina and Indonesia are materially injuring a U.S. industry, unliquidated entries of such merchandise from Argentina and Indonesia, entered or withdrawn from warehouse for consumption, are subject to the assessment of countervailing duties. Therefore, in accordance with section 706(a) of the Act, Commerce will direct U.S. Customs and Border Protection (CBP) to assess, upon further instruction by Commerce, countervailing duties for all relevant entries of biodiesel from Argentina and Indonesia in an amount equal to the net countervailable subsidy rates for the subject merchandise. Countervailing duties will be assessed on unliquidated entries of biodiesel from Argentina and Indonesia entered, or withdrawn from warehouse for consumption, on or after August 28, 2017, the date on which Commerce published its preliminary determinations in the Federal Register.⁵

⁵ See Biodiesel from Argentina: Preliminary Affirmative Countervailing Duty Determination and Preliminary Affirmative Critical Circumstances Determination, In Part, 82 FR 40748 (August 28, 2017); Biodiesel from the Republic of Indonesia: Preliminary Affirmative Countervailing Duty Determination, 82 FR 40746 (August 28, 2017).

Continuation of Suspension of Liquidation

In accordance with section 706 of the Act, Commerce will direct CBP to continue to suspend liquidation of all relevant entries of biodiesel from Argentina and Indonesia, and to assess, upon further instruction by Commerce pursuant to 706(a)(1) of the Act, countervailing duties for each entry of the subject merchandise in an amount based on the net countervailable subsidy rates for the subject merchandise. These instructions will remain in effect until further notice.

Subsidy Rates

Commerce will also instruct CBP to require cash deposits equal to the amounts as indicated below. The all-others rate applies to all producers or exporters not specifically listed, as appropriate.

Exporters/Producers from Argentina | Subsidy rate %
LDC Argentina S.A ⁶ | 72.28
Vicentin S.A.I.C ⁷ | 71.45
All Others | 71.87
Wilmar Trading Co., Ltd | 34.45
PT Musim Mas | 64.73
All Others | 38.95

Notification to Interested Parties

This notice constitutes the CVD orders with respect to biodiesel from Argentina and Indonesia, pursuant to section 706(a) of the Act. Interested parties can find a list of CVD orders currently in effect at http://enforcement.trade.gov/stats/iastats1.html.

⁶ In the final determination, Commerce found the following companies to be cross-owned with LDC Argentina S.A.: LDC Semillas S.A., Semillas del Rosario S.A.

⁷ In the final determination, Commerce found the following companies to be cross-owned with Vicentin S.A.I.C.: Oleaginosa San Lorenzo S.A., Los Amores S.A.

These orders are issued and published in accordance with section 706(a) of the Act and 19 CFR 351.211(b).

Dated: December 28, 2017.
P. Lee Smith,
Deputy Assistant Secretary for Policy and Negotiations.

Appendix

Scope of the Orders

The product covered by these orders is biodiesel, which is a fuel comprised of mono-alkyl esters of long chain fatty acids derived from vegetable oils or animal fats, including biologically-based waste oils or greases, and other biologically-based oil or fat sources. These orders cover biodiesel in pure form (B100) as well as fuel mixtures containing at least 99 percent biodiesel by volume (B99). For fuel mixtures containing less than 99 percent biodiesel by volume, only the biodiesel component of the mixture is covered by the scope of these orders.

Biodiesel is generally produced to American Society for Testing and Materials International (ASTM) D6751 specifications, but it can also be made to other specifications. Biodiesel commonly has one of the following Chemical Abstracts Service (CAS) numbers, generally depending upon the feedstock used: 67784-80-9 (soybean oil methyl esters); 91051-34-2 (palm oil methyl esters); 91051-32-0 (palm kernel oil methyl esters); 73891-99-3 (rapeseed oil methyl esters); 61788-61-2 (tallow methyl esters); 68990-52-3 (vegetable oil methyl esters); 129828-16-6 (canola oil methyl esters); 67762-26-9 (unsaturated alkylcarboxylic acid methyl ester); or 68937-84-8 (fatty acids, C12-C18, methyl ester).

The B100 product subject to the orders is currently classifiable under subheading 3826.00.1000 of the Harmonized Tariff Schedule of the United States (HTSUS), while the B99 product is currently classifiable under HTSUS subheading 3826.00.3000. Although the HTSUS subheadings, ASTM specifications, and CAS numbers are provided for convenience and customs purposes, the written description of the scope is dispositive.

[FR Doc. 2017-28480 Filed 1-3-18; 8:45 am]

BILLING CODE 3510-DS-P